Proclamation 7652 of February 28, 2003

Save Your Vision Week, 2003

By the President of the United States of America

A Proclamation

Each year, the number of Americans who suffer from vision loss increases, yet half of all blindness can be prevented through early detection and treatment. During Save Your Vision Week, we renew our commitment to protecting eyesight by promoting healthy eye care and by encouraging Americans to receive routine vision screenings and dilated eye exams.

Our sense of sight affects how we work, communicate, and learn. All Americans must be aware of the risk of vision loss and take steps to preserve and protect their eyesight, beginning with getting regular eye exams, using the appropriate protective eyewear, and maintaining a healthy lifestyle. These small steps can make a big difference. When Americans take responsibility for improving their health, our whole society benefits.

Healthy vision is especially critical to our children's ability to receive a good education and establish a strong foundation in life. According to the American Optometric Association, 80 percent of learning depends on vision, yet 86 percent of children entering school have not had a thorough eye examination. Due to hereditary and prenatal factors, from a very early age, many children are at high risk for potentially severe eye diseases, including retinopathy of prematurity (ROP), amblyopia, and congenital glaucoma. One in four kids will develop myopia as teenagers. Children need regular eye care from birth to prevent and treat conditions that lead to visual impairment and blindness. Parents play a key role in obtaining eye care for their children and must be knowledgeable about the potential threats to a child's eyesight. For the future of our Nation, it is vital that we care for the visual health and well-being of America's children so they are able to reach their full potential.

As part of my HealthierUS Initiative and my Administration's ongoing commitment to helping the American people live healthier lives, I encourage all Americans to get preventative health screenings. These screenings may tell you if you are prone to developing certain diseases, can help protect your vision, and could even save your life. I particularly urge parents to ask their children's doctors about vision screenings and eye exams, which can help ensure eye diseases and conditions are detected and treated early, when treatment is most effective. Through education about healthy vision and promotion of good eye care, we help protect the eyesight of countless people across our Nation.

The Congress, by joint resolution approved December 30, 1963, as amended (77 Stat. 629; 36 U.S.C. 138), has authorized and requested the President to proclaim the first week in March of each year as “Save Your Vision Week.” During this week, I encourage all Americans to learn more about ways to prevent eye problems and to help others maintain the precious gift of sight.

NOW, THEREFORE, I, GEORGE W. BUSH, President of the United States of America, do hereby proclaim March 2 through March 8, 2003, as Save Your Vision Week. I urge all Americans to make eye care and eye safety an important part of their lives and to include dilated eye examinations in their regular health maintenance programs. I invite eye care professionals, teachers, the media, and all public and private organizations dedicated to preserving eyesight to join in activities that will raise awareness of measures all Americans can take to protect and sustain our vision.

IN WITNESS WHEREOF, I have hereunto set my hand this twenty-eighth day of February, in the year of our Lord two thousand three, and of the Independence of the United States of America the two hundred and twenty-seventh.

B

[FR Doc. 03-5372

Filed 3-4-03; 9:12 am]

Billing code 3195-01-P